DEPARTMENT OF STATE

[Public Notice 5454]

Advisory Committee on International Economic Policy; Notice of Open Meeting

The Advisory Committee on International Economic Policy (ACIEP) will meet from 1:30 p.m. to 4:30 p.m. on Monday, July 24, 2006, in Room 1107, U.S. Department of State, 2201 C Street, NW., Washington, DC. The meeting will be hosted by Assistant Secretary of State for Economic and Business Affairs Daniel S. Sullivan and Committee Chairman R. Michael Gadbaw. The ACIEP serves the U.S. Government in a solely advisory capacity concerning issues and problems in international economic policy. Items on the agenda for this meeting include: (1) International Energy Issues and (2) Intellectual Property Rights Enforcement.

This meeting is open to the public as seating capacity allows. Entry to the building is controlled; to obtain pre-clearance for entry, members of the public planning to attend should provide, by July 20, 2006, their name, professional affiliation, valid government-issued ID number (i.e., U.S. government ID (agency), U.S. military ID (branch), passport (country), or drivers license (state)), date of birth, and citizenship to La Keisha Barner by fax (202) 647-5936, e-mail (BarnerLR@state.gov), or telephone (202) 647-0847. One of the following forms of valid photo identification will be required for admission to the State Department building: U.S. driver's license, passport, or U.S. Government identification card. Enter the Department of State from the C Street lobby. In view of escorting requirements, non-Government attendees should plan to arrive not less than 15 minutes before the meeting begins.

For additional information, contact David Freudenwald, Office of Economic Policy and Public Diplomacy, Bureau of Economic and Business Affairs, at (202) 647-2231 or FreudenwaldDJ@state.gov.

Dated: June 29, 2006.
Laura Faux-Gable,
Office Director, Office of Economic Policy Analysis and Public Diplomacy, Department of State.

[FR Doc. E6-10553 Filed 7-5-06; 8:45 am]

BILLING CODE 4710-07-P